DEPARTMENT OF THE INTERIOR

Fish and Wildlife Service

Receipt of Applications for Endangered Species Permits

AGENCY: Fish and Wildlife Service, Interior.

ACTION: Notice of receipt of applications for permits.

SUMMARY: The public is invited to comment on following applications to conduct certain activities with endangered species. We provide this notice pursuant to section 10(c) of the Endangered Species Act of 1973, as amended (16 U.S.C. 1531 et seq.).

DATES: We must receive written data or comments on these applications at the address given below, by October 15, 2003.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered species. If you wish to comment, you may submit comments by any one of several methods. You may mail comments to the Service's Regional Office (see ADDRESSES section) or via electronic mail (e-mail) to victoria davis@fws.gov. Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Anthony Joseph Savereno, Sabine & Water, Inc., Summerville, South Carolina, TE070880-0.

The applicant requests authorization to take (capture, band, release, monitor nests, and install and drill artificial cavity inserts) red-cockaded woodpeckers (Picoides borealis) for the purposes of monitoring and managing populations and nest cavities. The proposed activities would take place in Florida, Georgia, South Carolina, North Carolina, Alabama, Louisiana, Tennessee, Kentucky, Arkansas, Texas, Virginia, and Mississippi.

Applicant: Griggs & Maloney, Inc., Steven Davis Maloney, Murfreesboro, Tennessee, TE074624-0

The applicant requests authorization to take (capture, relocate, and release) Nashville crayfishes (Orconectes shoupi) while conducting presence and absence surveys around an unnamed tributary to Owl Creek and to relocate the Nashville crayfish from the area immediately around the crossing to areas of suitable habitat within the same tributary. The proposed activities would take place in Williamson County, Tennessee on an unnamed tributary to Owl Creek (tributary to Mill Creek).

Applicant: U.S. Geological Survey, Wiley M. Kitchens, Gainesville, Florida, TE069236-0

The applicant requests authorization to take (survey, capture, band, radio-tag, release, recapture, exam, measure, take feather samples, monitor nests) the Everglade snail kite (Rostrhamus sociabilis plumbeus) while collecting information on the demography and movement of the species. The surveys would be performed throughout several wetlands in central and south Florida, including Lake Kissimmee, East and West Lake Tohopekaliga, Lake Okeechobee, Blue Cypress Marshes of the upper Saint Johns, West Palm Beach Water Catchment area (Grassy Water Preserve), ARM Loxahatchee National Wildlife Refuge, Water Conservation Areas 2A, 2B, 3A, and 3B, Big Cypress National Preserve, and the Everglades National Park, including Shark Valley and North East Shark River Slough, Florida.

Applicant: United States Environmental Protection Agency, Region 4, Science and Ecosystem Support Division, Athens, Georgia, TE075931-0.

The applicant requests authorization to take (capture, photograph, release) all federally listed freshwater fishes, mollusks, crustaceans, insects, amphibians, mammals, birds, and reptiles, identified in 50 CFR 17.11 in the States of Kentucky, Tennessee, North Carolina, South Carolina, Georgia, Florida, Alabama, and Mississippi. Take may occur while sampling for aquatic bio-assessment for (1)(a) EPA Regional Environmental Monitoring and Assessment Program (R-EMAP) projects, (b) Clean Water Act (CWA) Section 303(d) listing and de-listing of impaired waters, (c) development of CWA Total Maximum Daily Loads (TMDLs), and for (2)(a) EPA human risk assessments and (b) Superfund human health and ecological risk assessments.

Applicant: United States Air Force, Julie A. Hovis, Shaw Air Force Base, South Carolina, TE075925-0

The applicant requests authorization to take (capture, band, release, track, translocate, blood sample, monitor nests and roost cavities, and construct, install and maintain artificial nest cavities) red-cockaded woodpeckers (Picoides borealis) while conducting presence and absence surveys and population monitoring and management. The take activities would occur at Poinsett Electronic Combat Range and Manchester State Forest in Sumter County, South Carolina.

Applicant: Timothy W. Savidge, North Carolina Heritage Program, Stephen P. Hall, Raleigh, North Carolina, TE075923-0

The applicant requests authorization to take (survey, capture, release, and retain relic shells) James spinymussel (Pleurobema collina), dwarf-wedge mussel (Alasmidonta heterodon) tar spinymussel (Elliptio steinstansanna), and Carolina heelsplitter (Lasmigona decorata). Take may occur while conducting presence/absence surveys. The proposed activities would take place in North Carolina, Virginia, Georgia, and Florida.

Applicant: HMB Professional Engineers, Inc., Jim H. Smith, Frankfort, Kentucky, TE075918-0

The applicant requests authorization to take (survey, capture, band, radio tag, photograph, release, and track) gray bat (Myotis grisescens) and Indiana bat (Myotis sodalis), and take (survey, capture, identify, photograph, collect relic shells, and release) the Cumberland elktoe (Alasmidonta atropurpurea). Take may occur while conducting presence and absence surveys for highway improvement and new roadway projects in the state of Tennessee.

Applicant: Julie L. Lockwood, Rutgers University, New Brunswick, New Jersey, TE075916

The applicant requests authorization to take (survey, capture, band, collect blood samples, monitor nest, and release) the Cape Sable seaside sparrow (Ammodramus maritimus mirabilis). The take activities may take place while studying the effects of fire on the Cape Sable seaside sparrow demography. The proposed activities would occur within the Everglades National Park, Monroe County, Florida.

Applicant: Virginia Cooperative Fish and Wildlife Unit, Richard J. Neves, Blacksburg, Virginia, TE075915-0

The applicant requests authorization to take (survey, capture, collect up to 30 tissue samples, tag, and release) the James spinymussel (Pleurobema cillina) and the tar spinymussel (Elliptio steinstansana). The proposed take may occur while conducting genetic analyses and habitat surveys, and while studying the life history and the feasibility of culturing it in recirculating aquaculture systems with different substrata. The proposed activities would occur in Stokes and Rockingham counties, Dan and Mayo rivers, Dan River subbasin of the Roanoke River basin, North Carolina for the tar spinymussel. The proposed activities for the James spinymussel will occur in Patrick and Henry Counties, South Fork Mayo River, Virginia.

Applicant: Thomas S. Risch, Arkansas State University, Jonesboro, Arkansas, TE075912-0

The applicant requests authorization to take (survey, capture, mark, band, radio-tag, track, recapture, and release) the Indiana bat (Myotis sodalis) while conducting presence and absence surveys of caves and abandoned mines. The proposed activities would take place at Rosson Hollow, Ozark National Forest, Franklin, Arkansas.

Applicant: Thomas S. Risch, Arkansas State University, Jonesboro, Arkansas, TE075913-0

The applicant requests authorization to take (survey, capture, mark, band, radio-tag, track, recapture, and release) the Ozark big-ear bat (Corynorhinus townsendii ingens), gray bat (Myotis grisescens), and Indiana bat (Myotis sodalis) while conducting presence and absence surveys of caves and abandoned mines in Marion, Searcy, Baxter, and Newton Counties, Buffalo National River, Arkansas.

Applicant: Steven Ray Shattler, Florida Fish and Wildlife Conservation Commission, Venus, Florida, TE076499-0

The applicant requests authorization to take (capture, band, release, monitor nests, install and drill artificial cavity inserts, and install snake exclusion devices) red-cockaded woodpeckers (Picoides borealis) while conducting presence and absence surveys and management activities. The proposed activities would take place in Highlands and Glades Counties, on the Platt Branch Mitigation Park and the Lykes Brothers Inc. Ranch, Florida.

Applicant: Roel R. Lopez, Texas A & M University, College Station, Texas, TE076447-0

The applicant requests authorization to take (trap, mark, tag, examine, recapture, release) Key Largo woodrats (Neotoma foidana smalli) and Key Largo cotton mice (Peromyscus gossypinus allapaticola) while conducting mark-recapture surveys for the Key Largo woodrat. The population estimates would be used for recovery purposes. The proposed activities would take place at the Crocodile Lake National Wildlife Refuge, Key Largo, Monroe County, Florida.

Dated: September 4, 2003.
Sam D. Hamilton,
Regional Director.

[FR Doc. 03-23392 Filed 9-12-03; 8:45 am]

BILLING CODE 4310-55-M